DEPARTMENT OF HEALTH AND HUMAN SERVICES

Centers for Medicare & Medicaid Services

[Document Identifier: CMS-10261]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of a currently approved collection; Title: Part C Medicare Advantage Reporting Requirements and Supporting Regulations in 42 CFR 422.516(a); Use: The Centers for Medicare and Medicaid Services (CMS) established reporting requirements for Medicare Advantage Organizations (MAOs) under the authority described in 42 CFR 422.516(a). It is noted that each MAO must have an effective procedure to develop, compile, evaluate, and report to CMS, to its enrollees, and to the general public, at the times and in the manner that CMS requires, and while safeguarding the confidentiality of the doctor-patient relationship, statistics and other information with respect to the cost of its operations, patterns of service utilization, availability, accessibility, and acceptability of its services, developments in the health status of its enrollees, and other matters that CMS may require.

CMS also has oversight authority over cost plans which includes establishment of reporting requirements. The data requirements in this supporting statement are specifically relevant to the cost plan requirements in section 1876(c)(1)(C) of the Social Security Act which establishes beneficiary enrollment and appeal rights.

CMS initiated new Part C reporting requirements with the Office of Management and Budget (OMB) approval of the “Information Collection Request” (ICR) under the Paperwork Reduction Act of 1995 (PRA) in December, 2008 (OMB # 0938-New; CMS-10261). National PACE plans and 1833 cost plans are excluded from reporting all the new Part C Reporting Requirements measures. The initial ICR involved thirteen measures. Two of these thirteen measures have been suspended from reporting because the information is available elsewhere: Measurement #10 Agent Compensation Structure and; Measurement #11 Agent Training and Testing. One new measure was added beginning 2012: Enrollment and Disenrollment. The ICR Reference number is 201105-0938-008. The OMB control number is 0938-1054.

CMS suspended the “Benefit Utilization” measure in late 2011. Thus, calendar year 2011 benefit utilization data were not reported. This suspension remains in effect and will lead to a reduction in burden. CMS is requesting the suspension of two additional measures: “Procedure Frequency” and Provider Network Adequacy.” The suspensions are all due to the fact that equivalent data are already being collected or are available through other sources in CMS. These suspensions will lead to a decrease in burden. CMS is adding one additional data element to its “grievances” measure. The grievance measure currently has 10 reporting categories. The additional category will be “CMS Issues.” This will add a slight increase to burden for this measure only. As a result of “lessons learned” after the publication of the 60-day notice, CMS proposes to make the Part C measure, Plan Oversight of Agents, consistent with the corresponding Part D section. Instead of reporting six data elements, contracts will now be required to report ten data elements. This change added a slight increase in burden. Overall, the approval of this ICR will lead to an estimated burden reduction of 85,594 hours and $5,217,603 in costs on an annual basis. Form Number: CMS-10261(OCN#: 0938-1054); Frequency: Yearly, Quarterly; Affected Public: Private Sector—Business or other for-profits; Number of Respondents: 1,375; Total Annual Responses: 6,715; Total Annual Hours: 123,326. (For policy questions regarding this collection contact Terry Lied at 410-786-8973. For all other issues call 410-786-1326.)

To be assured consideration, comments and recommendations for the proposed information collections must be received by the OMB desk officer at the address below, no later than 5 p.m. on November 26, 2012.

OMB, Office of Information and Regulatory Affairs, Attention: CMS Desk Officer, Fax Number: (202) 395-6974, Email: OIRA_submission@omb.eop.gov.

Dated: October 23, 2012.
Martique Jones,
Director, Regulations Development Group, Division B, Office of Strategic Operations and Regulatory Affairs.

[FR Doc. 2012-26378 Filed 10-25-12; 8:45 am]

BILLING CODE 4120-01-P